DEPARTMENT OF TRANSPORTATION

Federal Highway Administration

Supplemental Draft Environmental Impact Statement: Loudon, Anderson, and Knox Counties, TN

AGENCY: Federal Highway Administration (FHWA), DOT.

ACTION:

Notice of intent.

SUMMARY: The Federal Highway Administration (FHWA) is issuing this notice to advise the public of its intent to prepare a Supplemental Draft Environmental Impact Statement in cooperation with the Tennessee Department of Transportation (TDOT) for Route 475 (Knoxville Parkway) in Loudon, Knox, and Anderson Counties, Tennessee. This project is intended to improve regional and national transportation needs.

FOR FURTHER INFORMATION CONTACT: Mr. Walter Boyd, P.E., Field Operations Team Leader, Federal Highway Administration—Tennessee Division Office, 640 Grassmere Park Road, Suite 112, Nashville, TN 37211.

SUPPLEMENTARY INFORMATION: The U.S. Department of Transportation Federal Highway Administration (FHWA), in cooperation with the Tennessee Department of Transportation (TDOT), intends to prepare a Supplemental Draft Environmental Impact Statement (SDEIS) for the Route 475 (Knoxville Parkway).

A Draft Environmental Impact Statement (DEIS) FHWA-EIS-(TN-EIS-01-02-D) for the project was approved and released for public review in December 2001. The original DEIS contained analysis of three alternative alignments, called the Blue, Orange, and Green Alternatives. Based on the findings of the DEIS and comments provided by the public, TDOT identified the Orange Alternative as the preferred alignment to carry forward in the Final Environmental Impact Statement. The proposed project corridor begins at Interstate 75 (I-75) approximately 5.8 miles southwest of the I-40/I-75 merge southwest of Knoxville near Lenoir City. From this location, the corridor extends in a northeasterly direction to I-75 approximately 3.0 miles northwest of the I-75/SR-61 interchange, north of Knoxville near the City of Norris.

Since the DEIS was approved, the alternatives development and screening process for the Route 475 project has continued through the Context Sensitive Solutions (CSS) process (http://www.knoxvilleparkway.com). The CSS process identified two new alternatives that follow the general alignment of the original Orange alternative, but have been shifted at various locations based primarily on input from the CSS team. Furthermore, the number and type of access points along the corridor have been modified on these two alternatives. The purpose of the SDEIS is to develop and study these two new alternatives.

Letters describing the proposed NEPA study and soliciting input will be sent to the appropriate Federal, State, and local agencies that have expressed or are known to have an interest or legal role in this proposal. Private organizations, citizens, and interest groups will have an opportunity to provide input into the development of the SDEIS and identify issues that should be addressed. Notices of public meetings or public hearings will be given through various forums providing the time and place of the meeting along with other relevant information. The SDEIS will be available for public and agency review and comment prior to the public hearings.

To ensure that the full range of issues related to this proposed action are identified and taken into account, comments and suggestions are invited from all interested parties. Comments and questions concerning the proposed action and SDEIS should be directed to FHWA at the address provided above.

Issued on: October 31, 2005.
Walter Boyd,
Field Operations Team Leader, Nashville, Tennessee.

[FR Doc. 05-22008 Filed 11-3-05; 8:45 am]

BILLING CODE 4910-22-M